DEPARTMENT OF LABOR

Employment and Training Administration

[TA-W-51,388]

Solid State-Filtronic Incorporated, Compound Semiconductor, Santa Clara, CA; Notice of Revised Determination On Reconsideration

By letter of May 25, 2003, petitioners requested administrative reconsideration of the Department's denial of Trade Adjustment Assistance (TAA), applicable to workers of Solid State-Filtronics, Compound Semiconductors, Santa Clara, California.

The initial investigation resulted in a negative determination issued on May 6, 2003, based on the finding that imports of wafers used in the company's vertically integrated manufacturing of field effect transistors and monolithic microwave integrated circuits did not contribute importantly to worker separations and there was no shift in production to a country that is party to a Free Trade Agreement, or a Beneficiary Country under the Andean Trade Preference Act, the African Growth and Opportunity Act, or the Caribbean Basin Economic Recovery Act. The notice was published in the Federal Register on May 19, 2003 (68 FR 27107).

In their request for reconsideration, the petitioners supplied information concerning global competition regarding wafers used in the company's vertically integrated manufacturing of field effect transistors and monolithic microwave integrated circuits.

An examination of United States trade data for like or directly competitive products revealed that from 2001 to 2002, aggregate U.S. imports increased dramatically.

Conclusion

After careful consideration of the new facts obtained on reconsideration, it is concluded that the workers of Solid State-Filtronics, Compound Semiconductors, Santa Clara, California, were adversely affected by increased imports of articles like or directly competitive with wafers produced at the subject firm. In accordance with the provisions of the Act, I make the following certification:

“All workers of Solid State-Filtronics, Compound Semiconductors, Santa Clara, California, who became totally or partially separated from employment on or after March 27, 2002, through two years from the date of certification, are eligible to apply for adjustment assistance under section 223 of the Trade Act of 1974.”

Signed at Washington, DC this 1st day of July 2003.
Elliott S. Kushner,
Certifying Officer, Division of Trade Adjustment Assistance.

[FR Doc. 03-17830 Filed 7-14-03; 8:45 am]

BILLING CODE 4510-30-P